DEPARTMENT OF THE INTERIOR

National Park Service

[NPS-WASO-NAGPRA-17551; PPWOCRADN0-PCU00RP14.R50000]

Notice of Inventory Completion: Robert S. Peabody Museum of Archaeology, Phillips Academy, Andover, MA

AGENCY: National Park Service, Interior.

ACTION: Notice.

SUMMARY: The Robert S. Peabody Museum of Archaeology has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains and associated funerary objects should submit a written request to the Robert S. Peabody Museum of Archaeology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Robert S. Peabody Museum of Archaeology at the address in this notice by March 30, 2015.

ADDRESSES: Dr. Ryan J. Wheeler, Robert S. Peabody Museum of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Museum of Archaeology, Phillips Academy, Andover, MA. The human remains were removed from Betheia Farm-Touisett Point #2 site in Warren, Bristol County, Rhode Island.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Robert S. Peabody Museum of Archaeology professional staff in consultation with representatives of the Wampanoag Repatriation Confederacy, representing the Mashpee Wampanoag Tribe (previously listed as the Mashpee Wampanoag Indian Tribal Council, Inc.), the Wampanoag Tribe of Gay Head (Aquinnah), and the Assonet Band of the Wampanoag Nation (a non-federally recognized Indian group).

History and Description of the Remains

Maurice Robbins removed human remains representing, at minimum, one individual from the Betheia Farm-Touisett Point #2 site in Warren, Bristol County, RI, which were transferred to the Phillips Academy Department of Archaeology (now the Robert S. Peabody Museum of Archaeology) (Peabody Accn. 46/6437) in 1938. The human remains are cranial fragments, a humerus, and a femur. The individual is a female juvenile or subadult, aged approximately 10 to 11 years old at time of death. No known individuals were identified. No associated funerary objects are present. Cranial anatomy and teeth are consistent with Native American ancestry; physical anthropologist Michael Gibbons, in preparing an inventory of the remains, indicates that the individual died approximately 400+ years ago.

Information about the Betheia Farm-Touisett Point #2 site is found in the files of the Robert S. Peabody Museum of Archaeology and the files of the Rhode Island Historical Preservation & Heritage Commission (site numbers 1349 and 1350). Records at the former institution indicate that human remains washed out of the site during a storm and were collected by Robbins. The storm event may have been the “Great Hurricane” of September 1938, though a sketch map on file indicates erosion was already occurring in 1937. The site is described as a high sandy bluff facing Mount Hope Bay sitting on a very abrupt slope approximately 25 feet back from the beach. Robbins noted other artifacts from the site including points, hammerstones, fragmentary pestle, steatite bowl, and pottery fragments. Additional information may be available at the Robbins Museum of Archaeology/Massachusetts Archaeological Society in Middleborough, MA (MAS site #M-43/35), though no information was available during the preparation of this notice. Frank Speck (see his 1928 monograph “Territorial Subdivisions and Boundaries of the Wampanoag, Massachusett, and Nauset Indians,” Indian Notes and Monographs No. 44) places the area around Touisett Point within the traditional territory of the Wampanoag. There seems to be general agreement among scholars that this area was within the territory of the Wampanoag (for example, see Bert Salwen's entry “Indians of Southern New England and Long Island: Early Period” and William S. Simmons entry “Narragansett,” both appearing in the 1978 Handbook of North American Indians: Northeast, edited by Bruce G. Trigger, and Robert S. Grumet's 1995 book “Historic Contact: Indian Peoples and Colonists in Today's Northeastern United States in the Sixteenth through Eighteenth Centuries,” pages 117-121, 129-133). Linguistically this area is within the so-called n-dialect shared by Massachusett, Wampanoag, and Pokanoket speakers (see map and discussion in Kathleen J. Bragdon's 2009 book “Native Peoples of Southern New England, 1650-1775, pages 22-23). Mount Hope, located near Touisett Point in Bristol, Rhode Island, is identified as the home of Wampanoag leaders Massasoit and his son Metacomet (also known as King Philip). Conflict with English colonists over encroachment into traditional lands and attempts to restrict Native people to small reservations ignited Metacomet's rebellion or King Philip's War (1675-1676) when the Wampanoag were unwilling or unable to relinquish their lands. Sociopolitical and economic patterns in the coastal area of Rhode Island and Massachusetts were established by the late Woodland period circa AD 1000 and the coastal groups in this area are likely the ancestors of the Wampanoag people encountered by the English in the seventeenth century (for example, see discussion in Bragdon [2009:35-36]). Archaeology, ethnohistory, linguistics, and oral history provide multiple lines of evidence that demonstrate longstanding ties between the Wampanoag and the area around Touisett Point and affirm affiliation with the burial at the Betheia Farm-Touisett Point #2 site.

Determinations Made by the Robert S. Peabody Museum of Archaeology

Officials of the Robert S. Peabody Museum of Archaeology have determined that:

• Pursuant to 25 U.S.C. 3001(9), the human remains described in this notice represent the physical remains of one individual of Native American ancestry.

• Pursuant to 25 U.S.C. 3001(2), there is a relationship of shared group identity that can be reasonably traced between the Native American human remains and associated funerary objects and the Wampanoag Repatriation Confederacy, representing the Mashpee Wampanoag Tribe (previously listed as the Mashpee Wampanoag Indian Tribal Council, Inc.), the Wampanoag Tribe of Gay Head (Aquinnah), and, if joined, the Assonet Band of the Wampanoag Nation, a non-federally recognized Indian group).

Additional Requestors and Disposition

Lineal descendants or representatives of any Indian tribe or Native Hawaiian organization not identified in this notice that wish to request transfer of control of these human remains and associated funerary objects should submit a written request with information in support of the request to Dr. Ryan J. Wheeler, Robert S. Peabody Museum of Archaeology, Phillips Academy, 180 Main Street, Andover, MA 01810, telephone (978) 749-4490, email rwheeler@andover.edu, by March 30, 2015. After that date, if no additional requestors have come forward, transfer of control of the human remains and associated funerary objects to the Wampanoag Repatriation Confederacy, representing the Mashpee Wampanoag Tribe (previously listed as the Mashpee Wampanoag Indian Tribal Council, Inc.), the Wampanoag Tribe of Gay Head (Aquinnah), and, if joined, the Assonet Band of the Wampanoag Nation, a non-federally recognized Indian group, may proceed.

The Robert S. Peabody Museum of Archaeology is responsible for notifying the Wampanoag Repatriation Confederacy, representing the Mashpee Wampanoag Tribe (previously listed as the Mashpee Wampanoag Indian Tribal Council, Inc.), the Wampanoag Tribe of Gay Head (Aquinnah), and the Assonet Band of the Wampanoag Nation, a non-federally recognized Indian group, that this notice has been published.

Dated: January 23, 2015.
Melanie O'Brien,
Acting Manager, National NAGPRA Program.

[FR Doc. 2015-04045 Filed 2-25-15; 8:45 am]

BILLING CODE 4312-50-P